DEPARTMENT OF STATE

[Public Notice Number 3495]

United States International Telecommunication Advisory Committee (ITAC)—Telecommunication Standardization Sector (ITAC-T); National Committee and U.S. Study Groups A, B, and D; Notice of Meetings

The Department of State announces meetings of the U.S. International Telecommunication Advisory Committee (ITAC), ITAC—Telecommunication Standardization (ITAC-T) National Committee, and U.S. Study Groups A, B, and D. The purpose of the Committees is to advise the Department on policy and technical issues with respect to the International Telecommunication Union and international telecommunication standardization and development. Except where noted, meetings will be held at the Department of State, 2201 “C” Street, NW., Washington, DC.

The ITAC will meet on December 20, 2000, from 9:30 to noon to prepare for the World Telecommunication Policy Forum on Internet Telephony in Department of State room 1406 and from 1:30 to 4:30 to prepare for the next meeting on ITU Reform in Department of State room 1207.

The ITAC-T National Committee will meet January 10, 2001 from 9:30 to noon and February 28, 2001 from 9:30 to 3:30 at the offices of the Telecommunication Industry Association, 2500 Wilson Boulevard, Arlington, VA 22201. The ITAC-T National Committee will meet February 14, 2001 from 9:30 to 3:30 at the offices of the Alliance for Telecommunications Industry Solutions, 1200 G Street, NW., Washington, DC 20005. The agenda for all three meetings will be preparations for the ITU-T Telecommunication Standardization Advisory Group meeting starting on March 19, 2001.

The ITAC-T U.S. Study Group A will meet from 9:30 to noon on January 4, 2001, to prepare positions for the ITU-T Study Group 2 meeting starting in January 23, 2001.

The ITAC-T U.S. Study Group B will meet from 9:00 am to 4:30 on January 19, 2001, at the Wyndham Anatole Hotel, 2201 Stemmons Freeway, Dallas, TX 75207 to prepare positions for the next ITU-T Study Group 15 meeting, February 5-9, 2001.

Members of the general public may attend these meetings. Directions to meeting locations and actual room assignments may be determined by calling the Secretariat at 202-647-0965/2592. For meetings held at the Department of State: entrance to the building is controlled; people intending to attend any of the ITAC meetings should send a fax to (202) 647-7407 not later than 24 hours before the meeting for preclearance. This fax should display the name of the meeting (ITAC T, U.S. Study Group) and date of meeting, your name, social security number, date of birth, and organizational affiliation. One of the following valid photo identifications will be required for admission: U.S. driver's license, passport, U.S. Government identification card. Enter the Department of State from the C Street Lobby; in view of escorting requirements, non-Government attendees should plan to arrive not less than 15 minutes before the meeting begins.

Attendees may join in the discussions, subject to the instructions of the Chair. Admission of members will be limited to seating available.

Dated: December 9, 2000.
Marian Gordon,
Chairman, ITAC-T, U.S. Department of State.

[FR Doc. 00-32310 Filed 12-18-00; 8:45 am]

BILLING CODE 4710-45-P